DEPARTMENT OF COMMERCE

National Oceanic and Atmospheric Administration

[RTID 0648-XB815]

Endangered and Threatened Species; Take of Anadromous Fish

AGENCY: National Marine Fisheries Service (NMFS), National Oceanic and Atmospheric Administration (NOAA), Commerce.

ACTION: Notice of receipt of an application; for a Section 10(a)(1)(A) Scientific Research and Enhancement Permit associated with the Rescue and Rearing Management Plan for the Central California Coast steelhead—Petaluma River population.

SUMMARY: We, NMFS, announce receipt of an application for a section 10(a)(1)(A) Scientific Research and Enhancement Permit (Number 25838) under the Endangered Species Act (ESA) of 1973, as amended (16 U.S.C. 1531 et. seq.), for an associated Rescue and Rearing Management Plan for Petaluma River Steelhead population (RRMP) for the United Anglers of Casa Grande (UACG, Applicant). The proposed 10(a)(1)(A) permit and RRMP is intended to: (1) Increase ESA-listed adult Central California Coast (CCC) steelhead (Oncorhynchus mykiss) abundance in the Petaluma River towards levels identified by NMFS in the recovery plan for this population; and (2) provide emergency incubation and rearing facilities for other hatchery programs where conditions within these facilities are expected to become unsuitable for the culture of ESA-listed steelhead or coho salmon (O. kisutch).

DATES: Comments or requests for a public hearing on the actions proposed in the application must be received at the appropriate address (see ADDRESSES) no later than 5 p.m. Pacific standard time on March 18, 2022.

ADDRESSES: Written comments on the application should be submitted to the California Coastal Office, NMFS, 777 Sonoma Avenue, Room 325, Santa Rosa, California 95404. Comments may also be submitted by email to: Petaluma.steelhead.RRMP@noaa.gov (include the permit numbers in the subject line of the fax or email).

FOR FURTHER INFORMATION CONTACT: Jodi Charrier, Santa Rosa, California (ph.: 707-575-6069; Fax: 707-578-3435; email: jodi.charrier@noaa.gov). The permit application is available upon request through the contact information above, or online at https://apps.nmfs.noaa.gov.

SUPPLEMENTARY INFORMATION:

Species Covered in This Notice

The following ESA-listed species are covered in this notice:

• Steelhead (O. mykiss); Threatened CCC Distinct Population Segment (DPS)

Authority

Scientific Research and Enhancement Permits are issued in accordance with Section 10(a)(1)(A) of the ESA (16 U.S.C. 1539(a)(1)(A)) and regulations governing listed fish and wildlife permits (50 CFR part 222, subpart C). NMFS issues permits based on findings that such permits: (1) Are applied for in good faith; (2) if granted and exercised, would not operate to the disadvantage of the listed species that are the subject of the permit; (3) are consistent with the purposes and policies of Section 2 of the ESA; and (4) would further a bona fide and necessary or desirable scientific purpose or enhance the propagation or survival of the endangered species, taking into account the benefits anticipated to be derived on behalf of the endangered species; and additional issuance criteria (as listed at 50 CFR § 222.308(c)(5-12)). The authority to take listed species is subject to conditions set forth in the permits.

Anyone requesting a hearing on an application listed in this notice should set out the specific reasons why a hearing on that application would be appropriate (see ADDRESSES). Such hearings are held at the discretion of the Assistant Administrator for Fisheries, NMFS.

Permit Application Received

A draft RRMP has been developed and a Section 10(a)(1)(A) Scientific Research and Enhancement Permit application has been submitted to NMFS by the UACG. Fish rearing will occur at the UACG Hatchery and will be run by Casa Grande High School located in Petaluma, California in cooperation with UACG, the California Department of Fish and Wildlife (CDFW), and NMFS. A Technical Advisory Committee, consisting of representatives of the operating organizations, will provide scientific oversight for the program. The RRMP anticipates a permit term of 5 years.

The permit will authorize incidental take of CCC steelhead that may occur as a result of implementing the rescue, rearing, and research activities as detailed in the RRMP. Incidental take and associated effects to other ESA-listed steelhead and/or coho salmon that may occur as part of the emergency incubation and rearing component of the RRMP will be covered under existing 10(a)(1)(A) permits specific to individual hatchery management plans and will not be included in this permit.

NMFS anticipates a low level of incidental take of CCC steelhead will occur over the term (as detailed in Appendix A of the RRMP). The risk of such incidental take will be further avoided or minimized through implementation of rescue and rearing performance standards outlined in Table 1 of the RRMP. Steelhead eggs and carcasses will provide food for multiple species inhabiting the Petaluma River system. If rescued fish survive at higher rates than non-rescued fish, the resulting adult production will increase steelhead abundance in the watershed and increase the food supply for other species dependent on this resource. There will be no ecological interactions as part of emergency incubation and rearing as fish will only be reared in the hatchery and then be transported back to source hatcheries where they will be released to previously identified waters. The benefits to ESA-listed steelhead and coho salmon as a result of implementing the RRMP are expected to contribute to species recovery and outweigh any adverse effects.

Upon approval of the RRMP, NMFS will issue a Section 10(a)(1)(A) Scientific Research and Enhancement Permit to the Applicant. This permit will authorize the Applicant to take CCC steelhead incidental to the implementation of the RRMP. In addition to meeting other criteria, actions to be performed under the permit must not jeopardize the existence of federally listed species.

National Environmental Policy Act

Issuing an ESA section 10(a)(1)(A) permit constitutes a Federal action requiring NMFS to comply with the National Environmental Policy Act of 1969 (NEPA; 42 U.S.C. 4321 et seq.) and NOAA Administrative Order (NAO) 216-6A,). NMFS will evaluate the application with respect to environmental consequences on the human environment and determine the level of NEPA analysis needed for this action.

Public Comments Solicited

NMFS invites the public to comment, including any written data, views, or arguments, on the permit application during a 30-day public comment period beginning on the date of this notice. This notice is provided pursuant to Section 10(c) of the ESA (16 U.S.C. 1539(c)), 50 CFR 222.303. All comments and materials received, including names and addresses, will become part of the administrative record and may be released to the public. We provide this notice in order to allow the public, agencies, or other organizations to review and comment on these documents.

Next Steps

NMFS will evaluate the application, associated documents, and comments submitted to determine whether the application meets the requirements of Section 10(a)(1)(A) of the ESA and Federal regulations. The final permit decisions will not be made until after the end of the 30-day public comment period and after NMFS has fully considered all relevant comments received. NMFS will also meet other legal requirements prior to taking final action, including preparation of a biological opinion. NMFS will publish notice of its final action in the Federal Register.

Dated: February 10, 2022.
Angela Somma,
Chief, Endangered Species Conservation Division, Office of Protected Resources, National Marine Fisheries Service.

[FR Doc. 2022-03293 Filed 2-15-22; 8:45 am]

BILLING CODE 3510-22-P